ENVIRONMENTAL PROTECTION AGENCY

[ER-FRL-6658-4]

Environmental Impact Statements; Notice of Availability

Responsible Agency: Office of Federal Activities, General Information (202) 564-7167 or http://www.epa.gov/compliance/nepa.

Weekly receipt of Environmental Impact Statements

Filed November 29, 2004 Through December 3, 2004

Pursuant to 40 CFR 1506.9.

EIS No. 040553, DRAFT EIS, FRC, RI, KeySpan Liquefied Natural Gas (LNG) Facility Upgrade Project, Construction and Operation, and Algonquin Gas Transmission Project, Proposal for Site, Construct and Operate a New Natural Gas Pipeline, Coast Guard Permit, U.S. Army COE Section 10 and 404 Permits, Providence County, RI and New England, Comment Period Ends: January 24, 2005, Contact: Thomas Russo (866) 208-3372.

EIS No. 040554, DRAFT EIS, FHW, CO, Programmatic -I-70 Mountain Corridor Tier 1 Project, from Glenwood Springs and C-470 Proposes to Increase Capacity, Improve Accessibility and Mobility, and Decrease Congestion, Colorado, Garfield, Eagle, Summit, Clear Creek and Jefferson Counties, CO, Comment Period Ends: March 10, 2005, Contact: Jean Wallace (720) 963-3015.

EIS No. 040555, DRAFT EIS, NPS, TX, Big Thicket National Preserve Oil and Gas Management Plan, Implementation, Hardin, Jefferson, Orange, Liberty, Tyler, Jasper and Polk Counties, TX, Comment Period Ends: February 8, 2005, Contact: Linda Dansby (505) 988-6095.

EIS No. 040556, FINAL EIS, FHW, MN, IA, Trunk Highway 60 Reconstruction Project, Improvements from 1.8 miles south of the Minnesota-Iowa Border (120th Street) to I-90 north of the City of Worthington, Funding, U.S. Army COE Section 404 and NPDES Permits Issuance, Nobles County, MN and Osceola County, IA, Wait Period Ends: January 10, 2005, Contact: Cheryl Martin (651) 291-6120.

EIS No. 040557, DRAFT EIS, AFS, AK, Tuxekan Island Timber Sale(s) Project, Harvesting Timber, Coast Guard Bridge Permit and U.S. Army COE Section 10 and 404 Permits, Tongass National Forest, Thorne Bay Ranger District, Thorne Bay, AK, Comment Period Ends: January 24, 2005, Contact: Forrest Cole (907) 225-6215.

EIS No. 040558, FINAL EIS, AFS, KY, TN, Land Between the Lakes National Recreation Area, Proposes to Revise TVA's 1994 Natural Resources Management Plan, to Develop an Land Management Resource Plan or Area Plan, Gold Pond, Trigg and Lyon Counties, KY and Stewart County, TN, Wait Period Ends: January 10, 2005, Contact: Robert T. Jacobs (404) 347-4177. This document is available on the Internet at: http://www.lbl.org.

EIS No. 040559, DRAFT EIS, FHW, TN, TN-397 (Mack Hatcher Parkway Extension) Construction from US-31 (TN-6, Columbia Avenue) South of Franklin to US-341 (TN-106, Hillsboro Road) North of Franklin, Williamson County and the City of Franklin, TN, Comment Period Ends: February 17, 2005, Contact: Brian Brasher (615) 781-5763.

EIS No. 040560, FINAL EIS, AFS, MT, West Side Reservoir Post-Fire Project, Proposed Implementation of Timber Salvage and Access Management Treatments, Flathead National Forest, Hungry Horse and Spotted Bear Ranger Districts, Flathead County, MT, Wait Period Ends: January 10, 2005, Contact: Bryan Donner (406) 863-5408.

EIS No. 040561, DRAFT EIS, NRC, CT, GENERIC —License Renewal of Nuclear Plants for the Millstone Power Station, Units 2 and 3, Supplement 22 to NUREG-1437, Implementation, New London County, CT, Comment Period Ends: March 02, 2005, Contact: Richard L. Emch, Jr. (301) 415-1590.

EIS No. 040562, DRAFT EIS, BOP, WV, Southern West Virginia Proposed Federal Correctional Institution, Four Alternatives Sites in Southern West Virginia: Boone County, Mingo County, Nicholas County, and McDowell County, WV, Comment Period Ends: January 24, 2005, Contact: Pamela J. Chandler (202) 514-6470.

EIS No. 040563, DRAFT EIS, NRC, AL, Generic—License Renewal of Nuclear Plants for Browns Ferry, Unit 1, 2 and 3 (TAC Nos. MC7168, MC1769, and MC1770), Supplement 21 to NUREG-1437, Implementation, Athens, AL, Comment Period Ends: March 2, 2005, Contact: Dr. Michael Masnik (301) 415-1191.

EIS No. 040564, FINAL EIS, NRC, AL, Generic—License Renewal of Nuclear Plants for Browns Ferry, Unit 1, 2 and 3 (TAC Nos. MC7168, MC1769, and MC1770), Supplement 21 to NUREG-1437, Implementation, Athens, AL, Wait Period Ends: January 10, 2005, Contact: Michael L. Erk (605) 745-4107.

EIS No. 040565, DRAFT EIS, IBR, CA, Central Valley Project, San Luis Unit Long-Term Water Service Contract Renewal, West San Joaquin Division, Cities of Avenal, Coalinga and Huron, Fresno, King and Merced Counties, CA, Comment Period Ends: January 24, 2005, Contact: Joe Thompson (559) 487-5179.

EIS No. 040566, FINAL EIS, IBR, CA, Mendota Pool 10-Year Exchange Agreements, Water Provision to Irrigable Lands, Central Valley Project Improvement Act (CVPIA), Fresno and Madera Counties, CA, Wait Period Ends: January 10, 2005, Contact: David Young (559) 487-5127.

Amended Notices

EIS No. 040436, DRAFT EIS, AFS, SD, WY, Black Hills National Forest Land and Resource Management Plan Phase II Amendment, Proposal to Amend the 1997 Land and Resource Management Plan, Custer, Fall River, Lawrence, Meade, and Pennington Counties, SD and Crook and Weston Counties, WY, Comment Period Ends: January 14, 2005, Contact: Jeff Ulrich (605) 673-9200. Revision of Federal Register Notice Published on 9/17/04: CEQ Comment Period Ending 12/15/2004 has been Extended to 1/14/2005.

EIS No. 040479, REVISED DRAFT EIS, CBP, AZ, Programmatic EIS—Office of Border Patrol Operational Activities within the Border Areas of the Tucson and Yuma Sectors, Expansion of Operations of Technology-Based Systems, Completion and Maintenance of Approved Infrastructure, Cochise, Pima, Santa Cruz and Yuma Counties, AZ, Comment Period Ends: January 29, 2005, Contact: Mark Doles (817) 886-6499. Revision of Federal Register Notice Published on 10/15/2004: CEQ Comment Period Ending on 11/29/2004 has been Extended to 1/29/2005.

EIS No. 040504, DRAFT EIS, SFW, CA, Coachella Valley Multiple Species Habitat Conservation Plan (MSHCP), Santa Rosa and San Jacinto Mountains Trails Plan, Issuance of Incidental Take Permits, Riverside County, CA, Comment Period Ends: February 03, 2005, Contact: Julie Concannon (503) 231-6747. Revision of Federal Register Notice Published on 11/05/2004: CEQ Comment Period Ending 12/20/2004 Corrected to 2/3/2005.

EIS No. 040542, DRAFT EIS, AFS, OR, Rogue River-Siskiyou National Forest, Special Use Permits for Outfitter and Guide Operations on the Lower Rogue and Lower Illinois Rivers, Gold Beach Ranger District, Rogue River-Siskiyou National Forest, Curry County, OR, Comment Period Ends: January 10, 2005, Contact: Jim Heck (541) 858-2303. Revision of Federal Register Notice Published FR 11-26-04 Correction to Web Site Address: http://www.fs.fed.us/r6/rogue-siskiyou/projects/special-use/outfitter-rogue-illinois-river/rr-deis-11-04-04.pdf.

EIS No. 040543, FINAL EIS, FHW, MI, MI-59 Livingston County Widening Project between I-96 and U.S. 23, Recommended Alternative was Selected, Right-of-Way Preservation Center Corridor, Funding, NPDES and U.S. Army COE Section 404 Permits Issuance, Livingston County, MI, Wait Period Ends: January 28, 2005, Contact: Abdelmoez Abdalla (517) 702-1820. Revision of Federal Register Notice Published on 12/3/2004: CEQ Comment Period Ending 01/03/2005 Corrected to 01/28/2005.

Dated: December 7, 2004.
Robert W. Hargrove,
Director, NEPA Compliance Division, Office of Federal Activities.

[FR Doc. 04-27175 Filed 12-9-04; 8:45 am]

BILLING CODE 6560-50-P